NUCLEAR REGULATORY COMMISSION

[Docket No. 40-8943; ASLBP No. 08-867-02-OLA-BD01]

Crow Butte Resources, Inc.; License Renewal for the in Situ Leach Facility, Crawford, Nebraska

Notice of Atomic Safety and Licensing Board Reconstitution

Pursuant to 10 CFR 2.313(c) and 2.321(b), the Atomic Safety and Licensing Board (Board) in the above-captioned license renewal proceeding for the In Situ Leach Facility, Crawford, Nebraska is hereby reconstituted by appointing Administrative Judge Richard E. Wardwell to serve on the Board in place of Administrative Judge Richard F. Cole.

All correspondence, documents, and other materials shall continue to be filed in accordance with the NRC E-Filing rule. See 10 CFR 2.302 et seq.

Issued at Rockville, Maryland, this 18th day of November 2014.
E. Roy Hawkens,
Chief Administrative Judge, Atomic Safety and Licensing Board Panel.

[FR Doc. 2014-27792 Filed 11-21-14; 8:45 am]

BILLING CODE 7590-01-P